DEPARTMENT OF THE INTERIOR

National Park Service

[NPS-WASO-NRNHL-13097; PPWOCRADI0, PCU00RP14.R50000]

National Register of Historic Places; Notification of Pending Nominations and Related Actions

Nominations for the following properties being considered for listing or related actions in the National Register were received by the National Park Service before May 11, 2013. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by June 24, 2013. Before including your address, phone number, email address, or other personal identifying information in your comment, you should be aware that your entire comment—including your personal identifying information—may be made publicly available at any time. While you can ask us in your comment to withhold your personal identifying information from public review, we cannot guarantee that we will be able to do so.

Dated: May 16, 2013.
J. Paul Loether,
Chief, National Register of Historic Places/National Historic Landmarks Program.

ALABAMA

Houston County

Howell School, 408 E. Newton St., Dothan, 13000406

CALIFORNIA

Los Angeles County

Batchelder, Ernest and Alice—Dean, Francis, Garden, (Designed Gardens in Pasadena MPS), 626 S. Arroyo Blvd., Pasadena, 13000407

Bryner, Ira and Margaret, Garden, (Designed Gardens in Pasadena MPS), 494-508 Bradford St., Pasadena, 13000408

Coppell, Herbert, Garden Water Feature, (Designed Gardens in Pasadena MPS), 1210 S. Arroyo Blvd., Pasadena, 13000409

Frank, Richard and Mary Alice, Garden, (Designed Gardens in Pasadena MPS), 919 La Loma Rd., Pasadena, 13000410

Hoover, Herbert Jr. and Margaret, Garden, (Designed Gardens in Pasadena MPS), 900 S. San Rafael Ave., Pasadena, 13000411

La Pintoresca Park, (Designed Gardens in Pasadena MPS), 1355 N. Raymond Ave., Pasadena, 13000412

Lower Busch Gardens Cultural Landscape Historic District, (Designed Gardens in Pasadena MPS), 1025, 1035, 1055 S. Arroyo Blvd., 1130-1170 Busch Garden Ct., 625 & 655, Busch Garden Dr., 620-670 Busch Garden Ln., Pasadena, 13000413

Reynolds, Kenyon and Patricia, Garden, (Designed Gardens in Pasadena MPS), 901 S. San Rafael Ave., Pasadena, 13000414

Upper Busch Gardens Cultural Landscape Historic District, (Designed Gardens in Pasadena MPS), 960, 970, 980, 1001, 1010-1050, 1060 Stoneridge Dr., 570, 571 Busch Pl., 570, 571, 579 Garden Ln., Pasadena, 13000415

Riverside County

Mount San Jacinto State Park Historic District, 25905 CA 243, Idyllwild, 13000416

San Diego County

University Heights Water Storage and Pumping Station Historic District, 4236 Idaho St., San Diego, 13000417

INDIANA

Allen County

Abercrombie, John H. and Mary, House, 3130 Parnell Ave., Fort Wayne, 13000418

Crawford County

Proctor, William, House, 7037 IN 64, Marengo, 13000419

Hamilton County

Carmel Monon Depot, 211 1st St., SW., Carmel, 13000420

Johnson County

Greenlawn Cemetery, 100 W. South St., Franklin, 13000421

Lake County

Crawford—Winslow House, 357 Main St., Crown Point, 13000422

Glendale Park Historic District, (Historic Residential Suburbs in the United States, 1830-1960 MPS), 17-64 Glendale Pkwy., Hammond, 13000423

Marion County

Horner—Terrill House, 410 S. Emerson Ave., Indianapolis, 13000424

Owen County

Gosport Historic District, Roughly bounded by Church, Walnut, 5th & 3rd Sts., Gosport, 13000425

Porter County

McGill, Charles S. and Mary, House, 505 N. Washington St., Valparaiso, 13000426

St. Joseph County

Sons of Israel Synagogue, 420 S. William St., South Bend, 13000427

White County

Monticello Carnegie Library, 101 S. Bluff St., Monticello, 13000428

IOWA

Johnson County

Old Settlers' Association of Johnson County Cabins, Upper City Park Rd. off 100 blk. Park Rd., Iowa City, 13000429

KANSAS

Butler County

Creed—Mills House, 219 N. Maple St., Douglass, 13000430

Chase County

McNee Barns, (Agriculture-Related Resources of Kansas MPS), 3 mi. SW. of Elmdale on US 50, Elmdale, 13000431

Mitchell County

Click, Abram, Farmstead, (Agriculture-Related Resources of Kansas MPS), 2030 Independence Ave., Beloit, 13000432

Pottawatomie County

Baker, Cassius and Adelia, House, 609 Elm St., Wamego, 13000433

Republic County

Belleville High School, (Public Schools of Kansas MPS), 915 W. 18th St., Belleville, 13000434

Sedgwick County

Ellington Apartment Building, (Residential Resources of Wichita, Sedgwick County, Kansas 1870-1957 MPS), 514 S. Main St., Wichita, 13000435

Naomi and Leona Apartment Buildings, (Residential Resources of Wichita, Sedgwick County, Kansas 1870-1957 MPS), 507-509 S. Market St., Wichita, 13000436

Wyandotte County

Franklin Elementary School, (Public Schools of Kansas MPS), 1403 Metropolitan Ave., Kansas City, 13000437

MAINE

Androscoggin County

Clough Meeting House, 32 S. Lisbon Rd., Lewiston, 13000438

Cumberland County

St. Hyacinth School and Convent, 2 Walker St., Westbrook, 13000439

Oxford County

Lower Meeting House and East Bethel Cemetery, 1797 Intervale Rd., Bethel, 13000440

MASSACHUSETTS

Hampden County

Westfield Center Historic District, 0-362 Elm, 2-86 Broad, 0-83 Court, 2-24 Main, 0-71 N. Elm, Chestnut, W., Silver & Union Sts., Westfield, 13000441

Plymouth County

Men of Kent Cemetery, Meeting House Lane, Scituate, 13000442

MICHIGAN

Gratiot County

Wright Opera house Block Complex, 101-113 E Superior & 408 N. State Sts., Alma, 13000443

Marquette County

Midgaard, Address Restricted, Marquette, 13000444

Washtenaw County

Rentschler, Emanuel and Elizabeth, Farmstead, 1265 E. Michigan Ave., Saline, 13000445

MONTANA

Glacier County

Glacier County Courthouse, 512 E. Main St., Cut Bank, 13000446

NEW YORK

Erie County

Community of True Inspiration Residence, 919 Mill Rd., West Seneca, 13000447

Livingston County

English Evangelical Lutheran Church of Dansville, 21 Clara Barton St., Dansville, 13000448

Monroe County

Mann, Donald, House, 327 Stewart Rd., Scottsville, 13000449

Orleans County

Hillside Cemetery, NY 237 & S. Holley Rd., Clarendon, 13000450

NORTH CAROLINA

Dare County

LANCING (shipwreck), (World War II Shipwrecks along the East Coast and Gulf of Mexico MPS), Address Restricted, Buxton, 13000451

NORTH DAKOTA

Barnes County

Alderman School District No. 78, Cty. Rd. 21, Valley City, 13000452

Sheridan County

Clark House, 322 McKinley Ave., Goodrich, 13000453

SOUTH CAROLINA

Pickens County

Central Roller Mills, 300 Madden Bridge Rd., Central, 13000454

A request to move has been made for the following resource:

KANSAS

Doniphan County

Doniphan County Waddell Truss Bridge, FAS 28, 1.7 mi. NE of Doniphan, Doniphan, 89002185

A request for removal has been made for the following resources:

KANSAS

Thomas County

Colby Municipal Swimming Pool and Bath House, (New Deal-Era Resources of Kansas MPS), 200 E. 5th St., Colby, 02000609

NORTH DAKOTA

McLean County

McLean County Courthouse, Fifth Ave., Washburn, 85002998

PENNSYLVANIA

Cumberland County

McCullough, John, House, SE. of Newville on PA 233, Newville, 78002385

[FR Doc. 2013-13491 Filed 6-6-13; 8:45 am]

BILLING CODE 4312-51-P